Title 3—

The President

Proclamation 8696 of July 27, 2011

World Hepatitis Day, 2011

By the President of the United States of America

A Proclamation

Across our Nation, millions of Americans are living with viral hepatitis. As many as three-fourths of Americans living with the disease are unaware of their status and are not receiving care and treatment for their condition. Raising awareness about hepatitis is crucial to effectively fight stigmas, stem the tide of new infections, and ensure treatment reaches those who need it. On World Hepatitis Day, we join with people across our country and around the globe in promoting strategies that will help save lives and prevent the spread of viral hepatitis.

Viral hepatitis is inflammation of the liver, and can cause a lifetime of health issues for people who contract it. Hepatitis B and C viruses are the cause of a growing number of new liver cancer cases and liver transplants. In the United States, hepatitis is a leading infectious cause of death, claiming the lives of thousands of Americans each year. While we have come far, work still needs to be done to prevent and treat this disease.

Viral hepatitis touches Americans of all backgrounds, but certain groups are at greater risk than others. Past recipients of donated blood, infants born to mothers infected with viral hepatitis, and persons with sexually transmitted diseases or behaviors such as injection-drug use have risks for viral hepatitis. Baby boomers and African Americans have higher rates than others of contracting hepatitis C. Half of all Americans living with hepatitis B today are of Asian American and Pacific Islander descent, and one-third of people living with HIV also have either hepatitis B or hepatitis C. Worldwide, one in twelve people is living with viral hepatitis.

We must make sure that this “silent epidemic” does not go unnoticed by health professionals or by communities across our country. Under the Affordable Care Act, services including hepatitis immunizations for adults and hepatitis screenings for pregnant women are fully covered by all new insurance plans. My Administration has also released a comprehensive Action Plan for the Prevention, Care and Treatment of Viral Hepatitis. The plan brings together expertise and tools across government to coordinate our fight against this deadly disease. Our goal is to reduce the number of new infections, increase status awareness among people with hepatitis, and eliminate the transmission of hepatitis B from mothers to their children.

The first step toward achieving these goals is raising public awareness of this life-threatening disease. We must work to reduce the stigma surrounding hepatitis, and to ensure that testing, information, counseling, and treatment are available to all who need it. The hard work and dedication of health-care professionals, researchers, and advocates will help bring us closer to this goal. On this day, we renew our support for those living with hepatitis, and for their families, friends, and communities who are working to create a brighter, healthier future.

NOW, THEREFORE, I, BARACK OBAMA, President of the United States of America, by virtue of the authority vested in me by the Constitution and the laws of the United States, do hereby proclaim July 28, 2011, as World Hepatitis Day. I encourage citizens, Government agencies, nonprofit organizations, and communities across the Nation to join in activities that will increase awareness about hepatitis and what we can do to prevent it.

IN WITNESS WHEREOF, I have hereunto set my hand this twenty-seventh day of July, in the year of our Lord two thousand eleven, and of the Independence of the United States of America the two hundred and thirty-sixth.

[FR Doc. 2011-19618

Filed 7-29-11; 11:15 am]

Billing code 3195-W1-P